DEPARTMENT OF THE TREASURY

Office of Thrift Supervision

[AC-13: OTS Nos. 3915 and 17945]

First Niagara Financial Group, MHC, Lockport, New York, and First Niagara Bank, Lockport, NY; Approval of Conversion Application

Notice is hereby given that on November 14, 2002, the Director, Supervision Policy, Office of Thrift Supervision (“OTS”), or her designee, acting pursuant to delegated authority, approved the application of First Niagara Financial Group, MHC, Lockport, New York, and First Niagara Bank, Lockport, New York, to convert to the stock form of organization. Copies of the application are available for inspection by appointment (phone number: 202-906-5922 or e-mail: Public.Info@OTS.Treas.gov) at the Public Reading Room, OTS 1700 G Street, NW., Washington, DC 20552, and the OTS Northeast Regional Office, 10 Exchange Place, 18th Floor, Jersey City, New Jersey 07302.

Dated: November 15, 2002. By the Office of Thrift Supervision.
Nadine Y. Washington,
Corporate Secretary.

[FR Doc. 02-29527 Filed 11-20-02; 8:45 am]

BILLING CODE 6720-01-M